DEPARTMENT OF THE INTERIOR

Bureau of Land Management

[OR-130-1020-PH; GP7-0053]

Notice of Public Meeting, Eastern Washington Resource Advisory Council Meeting

AGENCY: Bureau of Land Management, U.S. Department of the Interior.

ACTION: Notice of public meeting.

SUMMARY: In accordance with the Federal Land Policy and Management Act of 1976 and the Federal Advisory Committee Act of 1972, the U.S. Department of the Interior, Bureau of Land Management Eastern Washington Resource Advisory Council will meet as indicated below.

DATES: The Eastern Washington Resource Advisory Council will meet Friday, February 23, 2007 at the Spokane District Office, Bureau of Land Management, 1103 North Fancher Road, Spokane Valley, Washington 99212-1275.

SUPPLEMENTARY INFORMATION: The meeting will start at 8 a.m., adjourn at 4 p.m., and will be open to the public. The meeting will focus on establishing the Council's agenda for calendar year 2007. The meeting will also include updates on the status of projects and issues discussed at previous meetings. There will be an opportunity for public comment at 3 p.m.

FOR FURTHER INFORMATION CONTACT: Scott Pavey or Sandie Gourdin, Bureau of Land Management, Spokane District Office, 1103 N. Fancher Road, Spokane Valley, Washington 99212-1275, or call (509) 536-1200.

Dated: January 18, 2007.
Richard Bailey,
Acting District Manager.

[FR Doc. E7-989 Filed 1-23-07; 8:45 am]

BILLING CODE 4310-33-P